DEPARTMENT OF THE INTERIOR

Bureau of Ocean Energy Management

[MMAA 104000]

Outer Continental Shelf (OCS), Gulf of Mexico (GOM), Oil and Gas Lease Sales, Central Planning Area (CPA) Lease Sales 235, 241, and 247

AGENCY: Bureau of Ocean Energy Management (BOEM), Interior.

ACTION: Notice of Intent (NOI) to Prepare a Supplemental Environmental Impact Statement (EIS).

SUMMARY: Consistent with the regulations implementing the National Environmental Policy Act, as amended (42 U.S.C. 4321 et seq.) (NEPA), BOEM is announcing its intent to prepare a Supplemental EIS for proposed Central Planning Area (CPA) Lease Sales 235, 241 and 247 in the Gulf of Mexico (CPA Supplemental EIS). Proposed Lease Sale 235 is the next proposed lease sale in the Gulf of Mexico's CPA off the States of Louisiana, Mississippi, and Alabama. The CPA Supplemental EIS will update the environmental and socioeconomic analyses in the Gulf of Mexico OCS Oil and Gas Lease Sales: 2012-2017; Western Planning Area Lease Sales 229, 233, 238, 246, and 248; Central Planning Area Lease Sales 227, 231, 235, 241, and 247, Final Environmental Impact Statement (OCS EIS/EA BOEM 2012-019) (WPA/CPA Multisale EIS) and in the Gulf of Mexico OCS Oil and Gas Lease Sales: 2013-2014; Western Planning Area Lease Sale 233; Central Planning Area Lease Sale 231, Final Supplemental Environmental Impact Statement (OCS EIS/EA BOEM 2013-0118) (WPA 233/CPA 231 Supplemental EIS). The WPA/CPA Multisale EIS was completed in July 2012. The WPA 233/CPA 231 Supplemental EIS was completed in April 2013.

A Supplemental EIS is deemed appropriate to supplement the NEPA documents cited above for these lease sales in order to consider new circumstances and information arising from, among other things, the Deepwater Horizon explosion, oil spill, and response. The CPA Supplemental EIS analysis will focus on updating the baseline conditions.

The CPA Supplemental EIS analysis will focus on the potential environmental effects of oil and natural gas leasing, exploration, development, and production in the CPA identified through the Area Identification procedure as the proposed lease sale area. In addition to the no action alternative (i.e., canceling a proposed lease sale), other alternatives may be considered for the proposed CPA lease sales, such as deferring certain areas from the proposed lease sale area.

SUPPLEMENTARY INFORMATION: On August 27, 2012, the Secretary of the Interior approved as final the Proposed Final OCS Oil & Gas Leasing Program: 2012-2017 (Five-Year Program). The Five-Year Program includes the three remaining CPA lease sales that will be considered in the CPA Supplemental EIS. Proposed CPA Lease Sales 235, 241, and 247 are tentatively scheduled to be held in 2015, 2016, and 2017, respectively. The proposed CPA lease sale area encompasses about 63 million acres of the total CPA area of 66.45 million acres (excluding whole and partial blocks deferred by the Gulf of Mexico Energy Security Act of 2006 and blocks that are adjacent to or beyond the United States Exclusive Economic Zone in the area known as the northern portion of the Eastern Gap).

This Federal Register notice is not an announcement to hold a proposed lease sale, but it is a continuation of information gathering and is published early in the environmental review process, in furtherance of the goals of NEPA. The comments received during the scoping comment period will help form the content of the CPA 235, 241, and 247 Supplemental EIS and will be summarized in presale documentation prepared during the decision making process for CPA Lease Sale 235. If, after completion of the CPA Supplemental EIS, the Department of the Interior's Assistant Secretary for Land and Minerals Management decides to hold a lease sale, then the lease sale area identified in the final Notice of Sale may exclude or defer certain lease blocks from the area offered. However, for purposes of the CPA Supplemental EIS and to adequately assess the potential impacts of an areawide lease sale, BOEM is assuming that all unleased blocks may be offered in proposed CPA Lease Sale 235 and in each of the remaining proposed CPA lease sales.

In order to ensure a greater level of transparency during the Outer Continental Shelf Lands Act (OCSLA) stages and tiered NEPA processes of the Five-Year Program, BOEM established an alternative and mitigation tracking table, which is designed to track the receipt and treatment of alternative and mitigation suggestions. Section 4.3.2 of the Outer Continental Shelf Oil and Gas Leasing Program: 2012-2017; Final Programmatic Environmental Impact Statement (the Five-Year Program EIS) (http://www.boem.gov/5-Year/2012-2017/PEIS.aspx) presented a list of deferral and alternative requests that were received during the development of the Five-Year Program EIS, but were determined to be more appropriately considered at subsequent OCSLA and NEPA stages. The WPA/CPA Multisale EIS addressed these deferral and alternative requests, but they were ultimately deemed inappropriate for further analysis as separate alternatives or deferrals from those already included and considered in the WPA/CPA Multisale EIS. In this and future NEPA analyses, BOEM will continue to evaluate whether these or other deferral or alternative requests warrant additional consideration as appropriate. (Please refer to Chapter 2.2.1.2 of the WPA/CPA Multisale EIS for a complete discussion; http://www.boem.gov/Environmental-Stewardship/Environmental-Assessment/NEPA/BOEM-2012-019_v1.aspx). A key principle at each stage in the NEPA process is to identify how the recommendations for deferral and mitigation requests are being addressed and whether new information or circumstances favor new or different analytical approaches in response to these requests.

Additionally, BOEM has created a tailored map of the potentially affected area through the Multipurpose Marine Cadastre (MMC) Web site (http://boem.gov/Oil-and-Gas-Energy-Program/Leasing/Five-Year-Program/Lease-Sale-Schedule/Interactive-Maps.aspx). The MMC is an integrated marine information system that provides a comprehensive look at geospatial data and ongoing activities and studies occurring in the area being considered. This Web site provides the ability to view multiple data layers of existing geospatial data.

Scoping Process: This NOI also serves to announce the scoping process for identifying issues for the CPA Supplemental EIS. Throughout the scoping process, Federal, State, Tribal, and local governments and the general public have the opportunity to help BOEM determine significant resources and issues, impacting factors, reasonable alternatives, and potential mitigation measures to be analyzed in the CPA Supplemental EIS, and to provide additional information. BOEM will also use the NEPA commenting process to initiate the section 106 consultation process of the National Historic Preservation Act (16 U.S.C. 470f), as provided for in 36 CFR 800.2(d)(3).

Pursuant to the regulations implementing the procedural provisions of NEPA (42 U.S.C. 4321 et seq.), BOEM will hold public scoping meetings in Louisiana, Mississippi, and Alabama on the CPA Supplemental EIS. The purpose of these meetings is to solicit comments on the scope of the CPA Supplemental EIS. BOEM's scoping meetings will be held at the following places and times:

• Gulfport, Mississippi: Monday, September 9, 2013, Courtyard by Marriott Beachfront MS Hotel, 1600 East Beach Boulevard, Gulfport, Mississippi 39501; one meeting beginning at 6:30 p.m. CDT;

• Mobile, Alabama: Tuesday, September 10, 2013, Hilton Garden Inn Mobile West, 828 West I-65 Service Road South, Mobile, Alabama 36609; one meeting beginning at 6:30 p.m. CDT; and

• New Orleans, Louisiana: Thursday, September 12, 2013, Bureau of Ocean Energy Management, Gulf of Mexico OCS Region, 1201 Elmwood Park Boulevard, New Orleans, Louisiana 70123; one meeting beginning at 1:00 p.m. CDT.

Cooperating Agency: BOEM invites other Federal, State, Tribal, and local governments to consider becoming cooperating agencies in the preparation of the CPA Supplemental EIS. We invite qualified government entities to inquire about cooperating agency status for the CPA Supplemental EIS. Following the guidelines from the Council on Environmental Quality (CEQ), qualified agencies and governments are those with “jurisdiction by law or special expertise.” Potential cooperating agencies should consider their authority and capacity to assume the responsibilities of a cooperating agency, and remember that an agency's role in the environmental analysis neither enlarges nor diminishes the final decisionmaking authority of any other agency involved in the NEPA process. Upon request, BOEM will provide potential cooperating agencies with a written summary of ground rules for cooperating agencies, including time schedules and critical action dates, milestones, responsibilities, scope and detail of cooperating agencies' contributions, and availability of predecisional information. BOEM anticipates this summary will form the basis for a Memorandum of Agreement between BOEM and any cooperating agency. Agencies should also consider the “Factors for Determining Cooperating Agency Status” in Attachment 1 to CEQ's January 30, 2002, Memorandum for the Heads of Federal Agencies: Cooperating Agencies in Implementing the Procedural Requirements of the National Environmental Policy Act. These documents are available at the following locations on the Internet: http://ceq.hss.doe.gov/nepa/regs/cooperating/cooperatingagenciesmemorandum.html; and http://ceq.hss.doe.gov/nepa/regs/cooperating/cooperatingagencymemofactors.html.

BOEM, as the lead agency, will not provide financial assistance to cooperating agencies. Even if an organization is not a cooperating agency, opportunities will exist to provide information and comments to BOEM during the normal public input stages of the NEPA/EIS process. For further information about cooperating agencies, please contact Mr. Gary D. Goeke at (504) 736-3233.

Comments: All interested parties, including Federal, State, Tribal, and local governments, and other interested parties, may submit written comments on the scope of the CPA Supplemental EIS, significant issues that should be addressed, alternatives that should be considered, potential mitigation measures, and the types of oil and gas activities of interest in the proposed CPA lease sale area.

Written scoping comments may be submitted in one of the following ways:

1. In an envelope labeled “Scoping Comments for the CPA Supplemental EIS” and mailed (or hand delivered) to Mr. Gary D. Goeke, Chief, Environmental Assessment Section, Office of Environment (GM 623E), Bureau of Ocean Energy Management, Gulf of Mexico OCS Region, 1201 Elmwood Park Boulevard, New Orleans, Louisiana 70123-2394;

2. Through the regulations.gov web portal: Navigate to http://www.regulations.gov and search for “Oil and Gas Lease Sales: Gulf of Mexico, Outer Continental Shelf; Central Planning Area Lease Sales 235, 241, and 247” (Note: It is important to include the quotation marks in your search terms.) Click on the “Comment Now!” button to the right of the document link. Enter your information and comment, then click “Submit”; or

3. BOEM's email address: cpa235@boem.gov.

Petitions, although accepted, do not generally provide useful information to assist in the development of alternatives, resources and issues to be analyzed, or impacting factors. BOEM does not consider anonymous comments; please include your name and address as part of your submittal. BOEM makes all comments, including the names and addresses of respondents, available for public review during regular business hours. Individual respondents may request that BOEM withhold their names and/or addresses from the public record; however, BOEM cannot guarantee that we will be able to do so. If you wish your name and/or address to be withheld, you must state your preference prominently at the beginning of your comment. All submissions from organizations or businesses and from individuals identifying themselves as representatives or officials of organizations or businesses will be made available for public inspection in their entirety.

DATES: Comments should be submitted by September 23, 2013 to the address specified above.

FOR FURTHER INFORMATION CONTACT: For information on the CPA Supplemental EIS, the submission of comments, or BOEM's policies associated with this notice, please contact Mr. Gary D. Goeke, Chief, Environmental Assessment Section, Office of Environment (GM 623E), Bureau of Ocean Energy Management, Gulf of Mexico OCS Region, 1201 Elmwood Park Boulevard, New Orleans, LA 70123-2394, telephone (504) 736-3233.

Authority: This NOI is published pursuant to the regulations (40 CFR 1501.17) implementing the provisions of NEPA.

Dated:August 16, 2013.
Tommy P. Beaudreau,
Director, Bureau of Ocean Energy Management.

[FR Doc. 2013-20649 Filed 8-22-13; 8:45 am]

BILLING CODE 4310-MR-P